DEPARTMENT OF COMMERCE

International Trade Administration

The President's Export Council: Meeting of the President's Export Council; Correction

AGENCY: International Trade Administration, U.S. Department of Commerce.

ACTION: Notice of a time change for an open meeting via teleconference.

SUMMARY: The President's Export Council will hold a meeting via teleconference to deliberate a draft letter of recommendation to the President. This meeting was announced in a Federal Register document published on August 13, 2007 (72 FR 45224). This notice corrects the time of that meeting.

Date: August 23, 2007.

Time: 1 p.m. (EDT); Correction.

For the Conference Call-In Number and Further Information, Contact: The President's Export Council Executive Secretariat, Room 4043, Washington, DC 20230 (Phone: 202-482-1124), or visit the PEC Web site, http://www.ita.doc.gov/td/pec.

Dated: August 16, 2007.
J. Marc Chittum,
Executive Secretary and Staff Director, President's Export Council.

[FR Doc. 07-4111 Filed 8-17-07; 9:33 am]

BILLING CODE 3510-DR-P